DEPARTMENT OF THE TREASURY

Office of Thrift Supervision

[AC-36 OTS Nos. 08193 and H4677]

Fairmount Bank, Baltimore, MD; Approval of Conversion Application

Notice is hereby given that on April 15, 2010, the Office of Thrift Supervision approved the application of Fairmount Bank, Baltimore, Maryland, to convert to the stock form of organization. Copies of the application are available for inspection by appointment (phone number: (202) 906-5922 or e-mail: public.info@ots.treas.gov) at the Public Reading Room, 1700 G Street, NW., Washington, DC 20552, and the OTS Southeast Regional Office, 1475 Peachtree Street, NE., Atlanta, Georgia 30309.

Dated: April 27, 2010.
By the Office of Thrift Supervision.
Sandra E. Evans,
Federal Register Liaison.

[FR Doc. 2010-10227 Filed 5-4-10; 8:45 am]

BILLING CODE 6720-01-M